SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before March 31, 2008.

ADDRESSES: Send all comments regarding whether this information collection is necessary for the proper performance of the function of the agency, whether the burden estimates are accurate, and if there are ways to minimize the estimated burden and enhance the quality of the collection, to Barbara Brannan, Special Assistant, Office of Surety Bond Guarantee Program, Small Business Administration, 409 3rd Street SW., 8th Floor, Wash., DC 20416.

FOR FURTHER INFORMATION CONTACT: Barbara Brannan, Special Assistant, Office of Surety Bond Guarantee Program, 202-205-6545 barbara.brannan@sba.gov Curtis B. Rich, Management Analyst, 202-205-7030 curtis.rich@sba.gov.

SUPPLEMENTARY INFORMATION: Title: “Surety Bond Guarantee Assistance”.

Description of Respondents: Surety Bond Companies.

Form No's.: 990, 991, 994, 994B, 994F, and 994H.

Annual Responses: 31,113.

Annual Burden: 2,012.

ADDRESSES: Send all comments regarding whether this information collection is necessary for the proper performance of the function of the agency, whether the burden estimates are accurate, and if there are ways to minimize the estimated burden and enhance the quality of the collection, to Sandra Johnston, Program Analyst, Office of Financial Assistance, Small Business Administration, 409 3rd Street SW., 8th Floor, Wash., DC 20416.

FOR FURTHER INFORMATION CONTACT: Sandra Johnston, Program Analyst, Office of Financial Assistance, 202-205-7528 sandra.johnston@sba.gov Curtis B. Rich, Management Analyst, 202-205-7030 curtis.rich@sba.gov.

Title: “Settlement Sheet”.

Description of Respondents: Lenders requesting SBA to provide the Agency with breakdown of payments.

Form No's.: 1050.

Annual Responses: 36,000.

Annual Burden: 27,000.

Title: “Lenders Transcript of Account”.

Description of Respondents: SBA Lenders.

Form No's.: 1149.

Annual Responses: 3,600.

Annual Burden: 3,600.

Jacqueline White,
Chief, Administrative Information Branch.

[FR Doc. 08-352 Filed 1-28-08; 8:45 am]

BILLING CODE 8025-01-M